DEPARTMENT OF TRANSPORTATION

Federal Aviation Administration

14 CFR Part 97

[Docket No. 30332; Amdt. No. 3025]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective October 8, 2002. The compliance date for each SIAP is specified in the amendatory provisions.

The incorporation by reference of certain publications listed in the regulations is approved by the Director of the Federal Register as of October 8, 2002.

ADDRESSES: Availability of matters incorporated by reference in the amendment is as follows:

For Examination

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: PO Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAM as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97:

Air Traffic Control, Airports, Incorporation by reference, and Navigation (Air).

Issued in Washington, DC, on September 27, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

§§ 97.23, 97.25, 97.27, 97.29, 97.31, 97.35, and 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective October 31, 2002

Huntsville, AL, Huntsville Intl-Carl T. Jones Field, ILS RWY 18R, Amdt 22

Dallas-Fort Worth, TX, Dallas-Fort Worth Intl, Converging ILS Y Rwy 18L, Orig

Dallas-Fort Worth, TX, Dallas-Fort Worth Intl, Converging ILS Z Rwy 18L, Orig

Dallas-Fort Worth, TX, Dallas-Fort Worth Intl, ILS Y Rwy 18L, Orig

Dallas-Fort Worth, TX, Dallas-Fort Worth Intl, ILS Z Rwy 18L, Orig

* * * Effective November 28, 2002

Alabaster, AL, Shelby County, RNAV (GPS) RWY 33, ORIG

Bentonville, AR, Bentonville Muni/Louise M. Thaden Field, RNAV (GPS) Rwy 18, Orig

Bentonville, AR, Bentonville Muni/Louise M. Thaden Field, RNAV (GPS) Rwy 36, Orig

Bentonville, AR, Bentonville Muni/Louise M. Thaden Field, VOR-A, Amdt 12

Bentonville, AR, Bentonville Muni/Louise M. Thaden Field, VOR/DME-B, Amdt 5

Bentonville, AR, Bentonville Muni/Louise M. Thaden Field, GPS Rwy 18, Amdt 1, Cancelled

Bentonville, AR, Bentonville Muni/Louise M. Thaden Field, GPS Rwy 36, Amdt 1, Cancelled

Palm Springs, CA, Desert Resorts Regional, VOR-A, Orig-A

San Diego, CA, San Diego Intl-Lindbergh Field, NDB Rwy 9, Amdt 19C

San Diego, CA, San Diego Intl-Lindbergh Field, NDB Rwy 27, Amdt 1D

San Diego, CA, San Diego Intl-Lindbergh Field, RNAV (GPS) Rwy 9, Orig

San Diego, CA, San Diego Intl-Lindbergh Field, RNAV (GPS) Rwy 27, Orig

Twentynine Palms, CA, Twentynine Palms, VOR Rwy 26, Amdt 1

Twentynine Palms, CA, Twentynine Palms, RNAV (GPS) Rwy 26, Orig

Zephyrhills, FL, Zephyrhills Muni, NDB Rwy 4, Orig

Zephyrhills, FL, Zephyrhills Muni, NDB Rwy 4, Orig, Cancelled

Chicago, IL, Chicago Midway, ILS Rwy 13C, Amdt 41

Chicago, IL, Chicago Midway, ILS Rwy 31C, Amdt 6

Chicago, IL, Chicago Midway, RNAV (GPS) Rwy 4L, Orig

Chicago, IL, Chicago Midway, RNAV (GPS) Rwy 13L, Orig

Chicago, IL, Chicago Midway, RNAV (GPS) Rwy 22R, Orig

Chicago, IL, Chicago Midway, RNAV (GPS) Rwy 31R, Orig

Muskegon, MI, Muskegon County, NDB Rwy 32, Amdt 12

Muskegon, MI, Muskegon County, ILS Rwy 24, Amdt 4

Muskegon, MI, Muskegon County, ILS Rwy 32, Amdt 17

Muskegon, MI, Muskegon County, RNAV (GPS) Rwy 6, Orig

Muskegon, MI, Muskegon County, RNAV (GPS) Rwy 14, Orig

Muskegon, MI, Muskegon County, RNAV (GPS) Rwy 24, Orig

Muskegon, MI, Muskegon County, RNAV (GPS) Rwy 32, Orig

Minneapolis, MN, Minneapolis-St Paul Intl/Wold Chamberlain, RNAV (GPS) Rwy 4, Amdt 1

Ainsworth, NE, Ainsworth Muni, RNAV (GPS) Rwy 17, Orig

Ainsworth, NE, Ainsworth Muni, RNAV (GPS) Rwy 35, Orig

Ainsworth, NE, Ainsworth Muni, VOR Rwy 17, Amdt 3

Ainsworth, NE, Ainsworth Muni, VOR Rwy 35, Amdt 4

Ainsworth, NE, Ainsworth Muni, GPS Rwy 35, Orig-A Cancelled

Scribner, NE, Scribner State, RNAV (GPS) Rwy 17, Orig

Scribner, NE, Scribner State, RNAV (GPS) Rwy 35, Orig

Scribner, NE, Scribner State, VOR Rwy 35, Amdt 2

Matawan, NJ, Marlboro, VOR OR GPS-A, Amdt 1, Cancelled

Matawan, NJ, Marlboro, VOR/DME RNAV OR GPS Rwy 9, Andt 1, Cancelled

Alamogordo, NM, Alamogordo-White Sands Regional, RNAV (GPS) Rwy 3, Orig

Alamogordo, NM, Alamogordo-White Sands Regional, VOR/DME Rwy 3, Orig

Alamogordo, NM, Alamogordo-White Sands Regional, VOR Rwy 3, Amdt 2

Alamogordo, NM, Alamogordo-White Sands Regional, NDB Rwy 3, Amdt 5

Alamogordo, NM, Alamogordo-White Sands Regional, GPS Rwy 3, Amdt 1A Cancelled

Durhamville, NY, Kamp, VOR OR GPS Rwy 28, Amdt 1A, Cancelled

Olean, NY, Cattaraugus County-Olean, NDB Rwy 22, Amdt 12A, Cancelled

Newburgh, NY, Stewart Intl, NDB Rwy 9, Amdt 8B

Newburgh, NY, Stewart Intl, ILS Rwy 9, Amdt 9

Newburgh, NY, Stewart Intl, RNAV (GPS) Rwy 9, Orig

Newburgh, NY, Stewart Intl, RNAV (GPS) Rwy 16, Orig

Newburgh, NY, Stewart Intl, (GPS) Rwy 16, Orig, Cancelled

Newburgh, NY, Stewart Intl, RNAV (GPS) Rwy 27, Orig

Newburgh, NY, Stewart Intl, GPS Rwy 27, Orig, Cancelled

Newburgh, NY, Stewart Intl, RNAV (GPS) Rwy 34, Orig

Kinston, NC, Kinston Regional Jetport at Stallings Field, VOR Rwy 23, Amdt 14

Louisburg, NC, Franklin County, ILS Rwy 4, Amdt 2

Bristow, OK, Jones Memorial, RNAV (GPS) Rwy 17, Orig

Bristow, OK, Jones Memorial, RNAV (GPS) Rwy 35, Orig

Bristow, OK, Jones Memorial, NDB Rwy 35, Amdt 2

Bristow, OK, Jones Memorial, GPS Rwy 17, Orig, Cancelled

Bristow, OK, Jones Memorial, GPS Rwy 35, Orig, Cancelled

Goldsby, OK, David Jay Perry, RNAV (GPS) Rwy 31, Orig

Goldsby, OK, David Jay Perry, VOR/DME Rwy 31, Amdt 1

Goldsby, OK, David Jay Perry, GPS Rwy 31, Orig, Cancelled

Madill, OK, Madill Muni, RNAV (GPS) Rwy 18, Orig

Madill, OK, Madill Muni, GPS Rwy 18, Orig Cancelled

Mooreland, OK, Mooreland Muni, RNAV (GPS) Rwy 17, Orig

Mooreland, OK, Mooreland Muni, GPS Rwy 17, Orig, Cancelled

Muskogee, OK, Muskogee/Davis Field, RNAV (GPS) Rwy 4, Orig

Muskogee, OK, Muskogee/Davis Field, RNAV (GPS) Rwy 31, Orig

Muskogee, OK, Muskogee/Davis Field, NDB Rwy 31, Amdt 10

Muskogee, OK, Muskogee/Davis Field, VOR Rwy 31, Amdt 4

Muskogee, OK, Muskogee/Davis Field, GPS Rwy 4, Orig-B, Cancelled

Muskogee, OK, Muskogee/Davis Field, GPS Rwy 31, Orig, Cancelled

Bloomsburg, PA, Bloomsburg Muni, VOR-A, Orig

Bloomsburg, PA, Bloomsburg, Muni, VOR OR GPS Rwy 8, Amdt 2, Cancelled

Bloomsburg, PA, Bloomsburg, Muni, RNAV (GPS)-B Orig

Philadelphia, PA, Wings Field, VOR/DME RNAV Rwy 6, Amdt 4, Cancelled

Philadelphia, PA, Wings Field, NDB Rwy 6, Amdt 9

Philadelphia, PA, Wings Field, GPS Rwy 24, Orig, Cancelled

Philadelphia, PA, Wings Field, RNAV (GPS) Rwy 6, Orig

Philadelphia, PA, Wings Field, RNAV (GPS) Rwy 24, Orig

Dallas-Fort Worth, TX, Dallas-Fort Worth International, ILS Rwy 35C, Amdt

Dallas-Fort Worth, TX, Dallas-Fort Worth International, Converging ILS Rwy 35C, Amdt 5

Dallas-Fort Worth, TX, Dallas-Fort Worth International, RNAV (GPS) Rwy 35C, Orig

Dallas-Fort Worth, TX, Dallas-Fort Worth International, GPS Rwy 35C, Orig-A, Cancelled

Blanding, UT, Blanding Muni, RNAV (GPS) Rwy 35, Orig

Blanding, UT, Blanding Muni, GPS Rwy 35, Orig, Cancelled

Franklin, VA, Franklin Muni-John Beverly Rose, RNAV (GPS) Rwy 9, Orig

Franklin, VA, Franklin Muni-John Beverly Rose, RNAV (GPS) Rwy 27, Orig

Gordonsville, VA, Gordonsville Muni, NDB OR GPS Rwy 23, Orig, Cancelled

Wakefield, VA, Wakefield Muni, NDB Rwy 20, Amdt 4C

Wakefield, VA, Wakefield Muni, RNAV, (GPS) Rwy 20, Orig

Bellingham, WA, Bellingham Intl, ILS Rwy 16, Amdt 4

Bellingham, WA, Bellingham Intl, NDB Rwy 16, Amdt 1

Prairie Du Chien, WI, Prairie Du Chien Muni, VOR/DME Rwy 29, Amdt 8

Prairie Du Chien, WI, Prairie Du Chien Muni, RNAV (GPS) Rwy 14, Orig

Prairie Du Chien, WI, Prairie Du Chien Muni, RNAV (GPS) Rwy 32, Orig

Prairie Du Chien, WI, Prairie Du Chien Muni, RNAV (GPS) Rwy 29, Orig

Prairie Du Chien, WI, Prairie Du Chien Muni, GPS Rwy 29, Orig, Cancelled

[FR Doc. 02-25309 Filed 10-7-02; 8:45 am]

BILLING CODE 4910-13-M